DEPARTMENT OF HEALTH AND HUMAN SERVICES

Centers for Medicare & Medicaid Services

42 CFR Parts 411 and 424

[CMS-1810-CN2]

RIN 0938-AK67

Medicare Program, Physicians' Referrals to Health Care Entities With Which They Have Financial Relationships (Phase III), Correction

AGENCY: Centers for Medicare & Medicaid Services (CMS), HHS.

ACTION: Correction of final rule.

SUMMARY: This document corrects technical and typographical errors that appeared in the final rule published in the Federal Register on September 5, 2007 entitled “Medicare Program, Physicians” Referrals to Health Care Entities With Which They Have Financial Relationships (Phase III).”

DATES: Effective Date: December 4, 2007.

FOR FURTHER INFORMATION CONTACT: Lisa Ohrin, (410) 786-4565.

SUPPLEMENTARY INFORMATION:

I. Background

In FR Doc. 07-4252 of September 5, 2007 (72 FR 51012), there were a number of technical and typographical errors that are identified and corrected in the Correction of Errors section below. The provisions of this correction notice are effective as if they had been included in the final rule published September 5, 2007. Accordingly, the corrections are effective December 4, 2007.

II. Correction of Errors

In FR Doc. 07-4252 of September 5, 2007 (72 FR 51012), make the following corrections:

A. Corrections to the Preamble

1. On page 51016, 3rd column, 2nd full paragraph, lines 18 and 19, the phrase “productivity bonus or profit share consistent with the special rules” is corrected to read “productivity bonus consistent with the special rules”.

2. On page 51018, 1st column, 3rd full paragraph, line 11, the phrase “other entity.” is corrected to read “other entity).”.

3. On page 51019,

a. First column, 1st partial paragraph,

(1) Line 6, the phrase “proposed rulemaking, we proposed to” is corrected to read, “proposed rulemaking (72 FR 42628), we proposed to”.

(2) Line 11, the phrase “ services', ” is corrected to read “ services,’ ”.

b. Third column, 1st full paragraph, line 12 the phrase “personally refills an implanted pump “is corrected to read “personally refills an implantable pump”.

4. On page 51021, 2nd column, 1st partial paragraph, line 2, the phrase “requirements of a consultation) are not” is corrected to read “requirements of a consultation) is not”.

5. On page 51024, 3rd column, 1st partial paragraph, line 46, the phrase “every 3-years” is corrected to read “every 3 years”.

6. On page 51025, 2nd column, 2nd full paragraph, lines 13 and 14, the phrase “current 90-days” is corrected to read “current 90 days”.

7. On page 51028, 1st column,

a. First full paragraph, lines 21 and 22, the phrase “such arrangements would have been analyzed under the as” is corrected to read “such arrangements would have been analyzed as”.

b. Second full paragraph, line 24, the phrase “market value arrangement) under” is corrected to read “market value compensation arrangement) under”.

8. On page 51032, 3rd column,

a. First full paragraph, line 3, the phrase “at least 8 hour” is corrected to read “at least 8 hours”.

b. Fifth paragraph, lines 8 and 9, the phrase “The in-office ancillary exception” is corrected to read “The in-office ancillary services exception”.

9. On page 51033, 2nd column, 1st full paragraph, lines 11 and 12, the phrase “ordering, or by a member of the group practice when furnished,” with “ordering the DHS, or by a member of the group practice when the DHS is furnished,”.

10. On page 51035, 1st column, 4th paragraph, line 14, the phrase “group practice; or by an entity that is” is corrected to read “group practice; or an entity that is”.

11. On page 51037, 1st column, 1st partial paragraph, lines 4 and 5, the phrase “furnished by the academic medical center” is corrected to read “furnished by the academic medical center as the result of a referral from that physician”.

12. On page 51043, 1st column, 3rd full paragraph, lines 4 and 5, the citation “(69 FR 16084-81605)” is corrected to read “(69 FR 16084-16085)”.

13. On page 51050, 3rd column, 2nd full paragraph, lines 4 through 7, the phrase “people reside in the “hole” zip code, the hospital may recruit a physician to establish a practice into the “hole” zip code.” is corrected to read “inpatients reside in the “hole” zip code, the hospital may recruit a physician to establish a practice in the “hole” zip code”.

14. On page 51055, 1st column, 1st partial paragraph, line 23, the phrase “within 6-months” is corrected to read “within 6 months”.

15. On page 51058,

a. First column, 4th paragraph,

(1) Line 13, the figure “CY-2005” is corrected to read “CY 2005”

(2) Line 14, the phrase “CY-2006, and $329 for CY-2007.” is corrected to read “CY 2006, and $329 for CY 2007.”.

b. Third column, 1st full paragraph, line 2, the figure “CY-2007)” is corrected to read “CY 2007)”.

16. On page 51062, 3rd column, first full paragraph,

a. Lines 26 through 32, the phrase “created by virtue of the ownership interest that does not meet an ownership exception (which, thus, creates a compensation arrangement), in the chain of relationships that runs: hospital-radiology venture-physicians.” is corrected to read “created by virtue of the chain of relationships that runs: hospital (contracts with) radiology venture (owned by) physicians.”

b. Lines 36 through 38, the phrase “With respect to the second indirect compensation arrangement, the inquiry would be whether the compensation” is corrected to read “The inquiry would be whether the compensation”.

17. On page 51063, second column, third full paragraph, line 16, the citation “§ 411.355(q)” is corrected to read “§ 411.357(q)”.

18. On page 51064, 1st column, fourth full paragraph, lines 2 and 3, the phrase “the entitys bona fide medical staff or in the entitys local” is corrected to read “the entity's bona fide medical staff or in the entity's local”.

19. On page 51066, 2nd column, 1st full paragraph, lines 23 through 28, the sentence “(We note that the exception for retention payments applies to federally qualified health centers and rural health clinics in the same manner as it applies to hospitals.)” is corrected to read “(We note that the exception for retention payments applies to remuneration provided by federally qualified health centers and rural health clinics in the same manner as it applies to remuneration provided by hospitals.)”.

20. On page 51068, 1st column, the section heading “U. Community-Wide Health Information System” is corrected to read “U. Community-Wide Health Information Systems”.

B. Corrections to the Regulations Text

1. On page 51087, 3rd column, 3rd full paragraph, lines 8 through 11, the phrase “For purposes of applying the exceptions in § 411.355 and § 411.357 to arrangements described in paragraphs (c)(1)(i) and (c)(2)(i),” is corrected to read “For purposes of applying the exceptions in § 411.355 and § 411.357 to arrangements in which a physician stands in the shoes of his or her physician organization,”.

2. On page 51091, 1st column, 9th full paragraph, line 5, the phrase “claims submission;” is corrected to read “claims submission.”

3. On page 51093, 2nd column, 9th full paragraph, lines 2 through 4, the phrase “paragraph (e)(1) is also signed by the party to whom the payments are directly made.” is corrected to read “paragraph (e)(1) is also signed by the physician practice.”

4. On page 51094, 2nd column, 8th full paragraph, line 5, the phrase “specifically addressed by another” is corrected to read “specifically excepted by another”.

5. On page 51096, 2nd column,

a. Eleventh paragraph, 1st line, the phrase “(C) A certification that the future” is corrected to read “(C) A statement that the future”.

b. Twelfth paragraph, line 2, the phrase “anticipates relocating his or medical” is corrected to read “anticipates relocating his or her medical”.

II. Waiver of Proposed Rulemaking and 30-Day Delay in the Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

Therefore, for reasons noted below, we find good cause to waive proposed rulemaking and the 30-day delayed effective date for the corrections in this notice. This notice merely corrects typographical and technical errors in the preamble and regulations text of the September 5, 2007 final rule and does not make substantive changes to the policies that were adopted in the final rule. Therefore, we find that undertaking further notice and comment procedures to incorporate these corrections into the final rule and delaying the effective date of these changes is unnecessary and contrary to the public interest.

(Catalog of Federal Domestic Assistance Program No. 93.773, Medicare—Hospital Insurance, and Program No. 93.774, Medicare—Supplementary Medical Insurance Program)

Dated: November 27, 2007.
Ann C. Agnew,
Executive Secretary to the Department.

[FR Doc. 07-5905 Filed 11-30-07; 8:45 am]

BILLING CODE 4120-01-P